DEPARTMENT OF VETERANS AFFAIRS

[OMB Control No. 202508-2900-0004]

Agency Information Collection Activity: Document Evidence Submission

AGENCY: Veterans Benefits Administration, Department of Veterans Affairs.

ACTION: Notice.

SUMMARY: Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice.

DATES: Comments must be received on or before November 10, 2025.

ADDRESSES: Comments must be submitted through www.regulations.gov.

FOR FURTHER INFORMATION CONTACT:

Program-Specific information: Kendra Mccleave, 202-461-9568, kendra.mccleave@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Document Evidence Submission (VA Form 20-10208).

OMB Control Number: 202508-2900-0004. https://www.reginfo.gov/public/do/PRASearch.

(Once at this link, you can enter the OMB Control Number to find the historical versions of this Information Collection).

Type of Review: New collection.

Abstract: VA Form 20-10208 (previously under OMB control number 2900-0877) is used by claimants submitting additional evidence or information in support of a claim or used to update information on a claimant's VA account. This proposal requests to assign a new control number and an additional use by a claimant when submitting evidence as part of a pre-discharge claim. Without this information, VA would not be able to efficiently and successfully process and associate evidence or information of record to a claimant's file which could negatively affect adjudication and decisions made by VA. The increase in burden is due to the associated burden from the previous control number with the additional respondents from this proposed modification.

Affected Public: Individuals or Households.

Estimated Annual Burden: 6,832 hours.

Estimated Average Burden per Respondent: 5 minutes.

Frequency of Response: One time.

Estimated Number of Respondents: 81,981 per year.

Authority: 44 U.S.C. 3501 et seq.

Dorothy Glasgow,
Acting, VA PRA Clearance Officer, Office of Enterprise and Integration/Data Governance Analytics, Department of Veterans Affairs.

[FR Doc. 2025-17265 Filed 9-8-25; 8:45 am]

BILLING CODE 8320-01-P